DEPARTMENT OF COMMERCE

National Oceanic and Atmospheric Administration

Agency Information Collection Activities; Submission to the Office of Management and Budget (OMB) for Review and Approval; Comment Request; Economic Analysis of Shoreline Treatment Options for Coastal New Hampshire

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before June 25, 2021.

ADDRESSES: Interested persons are invited to submit written comments to Adrienne Thomas, NOAA PRA Officer, at Adrienne.thomas@noaa.gov. Please reference OMB Control Number 0648-0788 in the subject line of your comments. Do not submit Confidential Business Information or otherwise sensitive or protected information.

FOR FURTHER INFORMATION CONTACT: Requests for additional information or specific questions related to collection activities should be directed to Sarah Gonyo, National Centers for Coastal Ocean Science, NOAA's National Ocean Service, Building SSMC4, Room 9320, 1305 East-West Highway, Silver Spring, MD, 20910, Telephone (240) 533-0382 or sarah.gonyo@noaa.gov.

SUPPLEMENTARY INFORMATION:

I. Abstract

This is a request for a revision to information collection 0648-0788, sponsored by the National Oceanic and Atmospheric Administration (NOAA) National Center for Coastal Ocean Science (NCCOS). This collection will benefit the NOAA, Office of Coastal Management (OCM), and decision-makers on the state and local level in New Hampshire. NOAA will collect economic data pursuant to the Coastal Zone Management Act (CZMA) and Digital Coastal Act.

The New Hampshire Coastal Risk and Hazards Commission (CRHC) was established by the State Legislature through RSA 483-E on July 2, 2013. The purpose of the Commission, as stated in the law, is to “recommend legislation, rules and other actions to prepare for projected sea-level rise and other coastal watershed hazards such as storms, increased river flooding and storm water runoff, and the risks such hazards pose to municipalities and the state assets in New Hampshire.” Further, in carrying out this charge, the Commission is specifically directed to “review National Oceanic and Atmospheric Administration and other scientific agency projections of coastal storm inundation and flood risk to determine the appropriate information, data, and property risks” to incorporate into its recommendations.

In 2016, the CRCH recommended the development of a “comprehensive, integrated New Hampshire Coastal Shoreline Management Plan (CSMP) that presents general priorities for coastal shoreline management, as well as site-specific and place-based strategies including, where appropriate, protection, adaptation, and abandonment.” Following a New Hampshire Shoreline Management workshop organized by GBNERR in 2014 and consistent with CRHC Recommendation BL6, NHCP has prioritized living shoreline assessment and implementation in its five-year strategy to enhance coastal management (309 Strategy, 2015) and set a longer-term goal to develop a Tidal Shoreline Management Plan (TSMP) for New Hampshire.

The National Ocean Service (NOS) proposes to collect economic data to document perceived effects of weather and climate events and adaptation strategies, to assess probable public benefits that would be derived from shoreline treatment options within coastal New Hampshire, and to establish a baseline for future monitoring of NOAA's success in meeting its mandates and obligations.

Respondents will be randomly sampled from households (1) within New Hampshire, (2) within block groups in Maine adjacent to the Piscataqua River, and (3) within block groups in Massachusetts adjacent to the Hampton-Seabrook Estuary. Questions will explore such issues as participation in recreational activities, familiarity with weather and climate effects and adaptation methods, sense of place, and opinions on shoreline treatment options. No PII will be collected. The final collection will support the development of a CSMP for New Hampshire as well as provide information to help inform local coastal zone management and planning.

Upon analysis of the pre-test data and guidance from experts in survey methodology, the following changes were made to enhance understanding, response rate, and to minimize respondent burden:

• Question 4: “suffered damage” has been replaced with “been damaged” to avoid potential bias an increase data quality.

• Questions 7a/8a: “coastal flooding” has been replaced with “flooding” to not exclude riverine flooding.

• Questions 7a/8a, 7b/8b: “flooding damage” and “shoreline erosion damage” were replaced with “damage from flooding” and “damage from shoreline erosion” to improve understanding.

• Questions 14h and 14i were removed based on pre-test results to reduce burden without decreasing data quality.

• Questions 16-21 originally asked respondents to indicate their preference to six unique policy options, but now respondents are asked to compare three sets of unique policy options. Pre-test results suggested that respondents would prefer to compare policies rather than rate them individually and comparing three sets of policy options should reduce burden while increasing data quality.

• Question 22b: This question is now asked after each policy comparison instead of once to improve data quality.

• Question 22f: “a public vote or referendum” was replaced with “being considered by the New Hampshire legislature” to convey the same information, but using region-specific terminology, which should increase data quality.

• Question 22: An additional statement was added to capture potentially invalid responses due to “scenario rejection,” which should increase data quality.

• Question 23: The question and response option phrasings have been updated to reflect the modified choice experiment.

• Question 30: The year has been updated from 2019 to 2020 when asking about the previous year's household income.

• A question has been added to ask how long the respondent has been a resident of their current state. Respondents who have recently moved within their state may have different opinions than those who have recently moved from out-of-state, so this additional question should increase data quality.

II. Method of Collection

The data collection will take place over a five- to nine-month period and will be comprised of a questionnaire to be completed by the respondent. The data will be collected via a combination of mail and internet survey instrument.

III. Data

OMB Control Number: 0648-0788.

Form Number(s): None.

Type of Review: Regular submission (revision of an existing information collection).

Affected Public: Individuals or households.

Estimated Number of Respondents: 6,000.

Estimated Time per Response: 20 minutes.

Estimated Total Annual Burden Hours: 2,000.

Estimated Total Annual Cost to Public: $0.

Respondent's Obligation: Voluntary.

Legal Authority: Digital Coast Act, Coastal Zone Management Act.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2021-08650 Filed 4-23-21; 8:45 am]

BILLING CODE 3510-JE-P